SECURITIES AND EXCHANGE COMMISSION

[FIle No. 500-1]

In the Matter of Certain Companies Quoted on the Pink Sheets: Alliance Transcription Services, Inc., Prime Petroleum Group, Inc., T.W. Christian, Inc.; Order of Suspension of Trading

October 4, 2007.

It appears to the Securities and Exchange Commission that there is a lack of current and accurate information concerning the securities of the issuers listed below. As set forth below for each issuer, questions have arisen regarding the adequacy and accuracy of publicly-disseminated information concerning, among other things: (1) The companies' assets, (2) the companies' business operations and/or management, (3) the companies' current financial condition, and/or (4) financing arrangements involving the issuance of the companies' shares.

1. Alliance Transcription Services, Inc. is a Nevada company with offices in Maine and California. Questions have arisen regarding the adequacy and accuracy of press releases concerning the company's assets and its current operations and financial condition and transactions involving the issuance of the company's shares.

2. Prime Petroleum Group, Inc. is a Nevada company with offices in Washington. Questions have arisen regarding the adequacy and accuracy of press releases and other publicly-disseminated information concerning the company's assets and its current operations, management and financial condition.

3. T.W. Christian, Inc. is a Minnesota company with offices in Vancouver, British Columbia, Canada. Questions have arisen regarding the adequacy and accuracy of press releases concerning the company's assets and its current operations, management and financial condition.

The Commission is of the opinion that the public interest and the protection of investors require a suspension of trading in the securities of the companies listed above.

Therefore, it is ordered, pursuant to section 12(k) of the Securities Exchange Act of 1934, that trading in the securities of the companies listed above is suspended for the period from 9:30 a.m. EDT, October 4, 2007, through 11:59 p.m. EDT, on October 17, 2007.

By the Commission.
Nancy M. Morris,
Secretary.

[FR Doc. 07-4971 Filed 10-4-07; 10:28 am]

BILLING CODE 8011-01-P